DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau, Commerce.

Title: Federal Statistical System Public Opinion Survey.

OMB Control Number: 0607-0969.

Form Number(s): None.

Type of Request: Regular submission.

Number of Respondents: 44,200.

Average Hours per Response: 0.1666667.

Burden Hours: 7367.

Needs and Uses: These public opinion data will enable the Census Bureau to better understand public perceptions of federal statistical agencies and their products, which will provide guidance for communicating with the public and for future planning of data collection that reflects a good understanding of public perceptions and concerns. Because all federal statistical agencies are also facing these issues of declining response rates and increasing costs in a time of constrained budgets, the Census Bureau will share the results of these surveys with other federal statistical agencies, to maximize the utility of this information collection and ultimately, the quality and efficiency of federal statistics. Specifically, other federal statistical agencies have expressed interest in continuing this data collection for use in communications strategies within their own agencies.

The Census Bureau plans to add 7 questions to a sample of cases in the Gallup Daily Tracking, which is an ongoing daily survey asking U.S. adults about various political, economic, and well-being topics. The initial 7 questions will allow us to continue the time series begun under the previous study and to add open-ended questions, which will allow us to measure change in the basis of attitudes. The additional questions will allow us to investigate other issues that could be related to trust and other perceptions of the FSS.

The survey methodology for the planned collection is the same as the past collection. It includes sample coverage of the entire United States, including Alaska and Hawaii, and relies on a three-call design to reach respondents not contacted on the initial attempt. The survey methods for the Gallup Daily Tracking rely on live interviews, dual-frame sampling (which includes listed landline interviewing as well as cell phone sampling to reach those in cell phone-only households, cell phone-mostly households, and unlisted landline-only households), and a random selection method for choosing respondents within the household. The Census Bureau will ask questions of 850 respondents a week who participate in the Gallup Daily Tracking through October 31, 2019 via a contract that has a base year and four options years.

Up to 20 additional pulse questions can be added to the nightly survey for a total of 100 days per year. These “pulse” questions will be used for several distinct purposes.

First, additional questions can be added to and removed from the initial set of 7 questions in a series of question “rotations”. Rotations will be planned to explore public opinion of different aspects of statistical uses of administrative records. Topics for the additional questions will including knowledge about administrative records use, public perception of the quality of such records, public perception of privacy and confidentiality implications of such use, and differentiation between types of administrative records and types of statistical uses. These rotations might include introducing or framing the questions differently, varying the types of records mentioned and the methods of use in the question, willingness-to-pay/stated preference questions, and so on. These types of questions would add up to 5 questions in the nightly interview and would be fielded for a limited amount of time surrounding the particular event. These questions will be submitted to OMB by way of update to this submission.

Second, rotating questions will be used to explore awareness of other statistics or other statistical agencies not mentioned in the core questions. For example, we may ask additional questions to explore awareness of specific types of statistics, like health statistics, or agricultural statistics. These types of questions would add up to 3 questions in the nightly interview and would be fielded for a limited amount of time. These questions will also be submitted to OMB by way of update to this submission.

Third, rotating questions will be used to explore opinions towards initiatives, like Bring Your Own Device, that the Census Bureau and other federal statistical agencies are considering adopting. These types of questions would add up to 3 questions in the nightly interview and would be fielded for a limited amount of time. These questions will also be submitted to OMB by way of update to this submission.

Fourth, rotating questions will be used for communications, public relations and similar message testing. Examples of such messages would be different ways of describing confidentiality or privacy protection, or different ways of encouraging response to a survey. These types of questions would add up to 5 questions in the nightly interview and would be fielded for a limited amount of time surrounding the particular event. These questions will also be submitted to OMB by way of update to this submission (specified in more detail below). In general, they would ask things like awareness of the event, and opinions about the relationship (if any) between those events and the federal statistical system.

Finally, we may wish to add rotating questions very quickly after an unanticipated event to gage awareness of those events and opinions about the relationship (if any) between those events and the federal statistical system. These could be events like a data breach (public or private sector), political scandal, or any other unanticipated news event that may alter public perceptions. Gallup can add questions with as little as 48 hours notice. Up to 3 additional questions could be fielded in the nightly interview for a limited amount of time surrounding the particular event. These questions would be submitted to OMB for a quick-turn-around approval and would be very limited in scope to address the particular unanticipated event.

OMB and the Census Bureau have agreed that these rotating questions constitute nonsubstantive changes to this submission. OMB will be informed approximately monthly of the intent to make these changes through a single tracking document. This document will contain a complete history of all questions asked and the months that each question was asked.

Although the Gallup Daily Tracking Survey is portrayed by Gallup as being nationally representative, it does not meet Census Bureau quality standards for dissemination and is not intended for use as precise national estimates or distribution as a Census Bureau data product. The Census Bureau will use the results from this survey to monitor awareness and attitudes, as an indicator of the impact of potential negative events, and as an indicator of potential changes in awareness activities. Although the response rate to the survey is insufficiently high to be used for point estimation, the results are expected to provide useful information for describing general trends and for modeling opinions. Data from the research will be included in research reports with clear statements about the limitations and that the data were produced for strategic and tactical decision-making and exploratory research and not for official estimates. Research results may be prepared for presentation at professional meetings or in publications in professional journals to promote discussion among the larger survey and statistical community, encourage further research and refinement. Again, all presentations or publications will provide clear descriptions of the methodology and its limitations.

Affected Public: Individuals and Households.

Frequency: Ongoing.

Respondent's Obligation: Voluntary.

Legal Authority: Title 13 U.S.C. Chapter 5 Sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: August 26, 2015.
Glenna Mickelson,
Management Analyst, Office of the Chief Information Officer.

[FR Doc. 2015-21566 Filed 8-31-15; 8:45 am]

BILLING CODE 3510-07-P